DEPARTMENT OF THE INTERIOR

Bureau of Land Management

[ES-032-2-1430-EU]

Realty Action: Recreation and Public Purpose Act Classification; Huron County, MI

AGENCY: Bureau of Land Management, Interior.

ACTION: Notice of realty action; Recreation and Public Purposes Act (R&PP) Classification; Michigan.

SUMMARY: The following public lands near the community of Port Hope in Huron County, Michigan have been examined and found suitable for classification for lease or conveyance to the Huron County Road Commission, County Parks Department, under the provisions of the Recreation and Public Purposes (R&PP) Act of 1926, as amended (43 U.S.C. 869 et seq.). Therefore, in accordance with Section 7 of the Act of June 28, 1934, as amended (43 U.S.C. 315f) and EO 6964, the following described lands are hereby classified as suitable for disposal under the provisions of the R&PP Act of 1926, as amended (43 U.S.C. 869 et seq.) and, accordingly, opened for only that purpose.

Michigan Meridian

T. 18 N., R. 14 E.,

Pointe Aux Barques Lighthouse Reservation, located in lot 2, sec. 2, being more particularly described as:

Beginning at the ¼ section corner of secs. 2 and 11, T. 18 N., R. 14 E., Thence,

N. 34° 11′ E., 29.39 chs., to Angle Point No. 1, the place of beginning,

N. 50° 10′ E., 0.50 chs., to a point on line,

N. 50° 10′ E., 4.21 chs., to Angle Point No. 2,

S. 89° 31′ E., 1.14 chs., to a point on line,

S. 89° 31′ E., 0.46 chs., to Angle Point No. 3 on the present shoreline of Lake Huron,

Thence, with the meanders of Lake Huron,

N. 35° 48′ W., 0.62 chs.,

N. 3° 51′ E., 1.24 chs.,

N. 54° 52′ W., 1.59 chs., to Angle Point No. 4,

S. 0° 29′ W., 0.52 chs., to a point on line,

S. 0° 29′ W., 1.63 chs., to Angle point No. 5,

S. 50° 11′ W., 4.54 chs., to a point on line,

S. 50° 11′ W., 0.50 chs., to Angle Point No. 6,

S. 39° 50′ E., 0.38 chs., to Angle Point No. 1, the place of beginning.

The area described contains 0.47 acre in Huron County.

Huron County proposes to integrate the lands into the existing Lighthouse County Park. This action classifies the lands identified above for disposal through the Recreation and Public Purposes Act of 1926 (43 U.S.C. 869 et seq.) to protect the historic lighthouse and the surrounding lands. The subject land was identified in the Michigan Resource Management Plan Amendment, approved June 30, 1997, as not needed for Federal purposes and having potential for disposal to protect the historic structures and surrounding lands. Lease or conveyance of the land for recreational and public purpose use would be in the public interest. Detailed information concerning this action is available for review at the office of the Bureau of Land Management, Milwaukee Field Office, Wisconsin.

FOR FURTHER INFORMATION CONTACT: Paul J. Salvatore, Realty Specialist, Bureau of Land Management, Milwaukee Field Office, 310 West Wisconsin Avenue, Suite 450, Milwaukee, Wisconsin 53203, (414) 297-4413.

SUPPLEMENTARY INFORMATION: Pursuant to Executive Order dated May 24, 1857, a parcel of public land totaling 87.1 acres located in Huron County, Michigan, described as Lots 1 and 2, Section 2, Township 18 North, Range 14 East, Michigan Meridian, was reserved for lighthouse purposes. The parcel contains the Pointe Aux Barques Lighthouse and is located on the western shore of Lake Huron near the cities of Port Hope and Huron City, Michigan.

On May 28, 1935, through an Act of Congress, the Secretary of Commerce was authorized to dispose of certain lighthouse reservations. Section 16 of that Act authorized the Secretary of Commerce to convey that portion of the Pointe Aux Barques lighthouse reservation no longer needed for lighthouse purposes to Huron County, Michigan for public park purposes. The Secretary of Commerce conveyed these lands, approximately 56.6 acres, through a Deed dated August 10, 1935.

Through a Quit Claim Deed dated March 18, 1958, the General Services Administration transferred 29.9 acres of the remaining lands of the lighthouse reservation to Huron County for park and recreation purposes. This left 0.47 acres, more or less, of the original lighthouse reservation of 87.1 acres.

The Department of Transportation, United States Coast Guard, submitted a Notice of Intent (NOI) to relinquish custody, accountability and control of the remaining 0.47 acres, more or less. The Bureau of Land Management has recommended that the remaining lands be determined suitable for return to their former status as public lands, such determination to be made by the Secretary of the Interior and accomplished by the issuance of a public land order revoking the Executive Order as to the remaining lands. A proposed public land order for this purpose currently is pending and awaiting action within the Department.

The Huron County Road Commission, County Parks Department, has applied for patent to the land under the R&PP Act of 1926, as an addition to Lighthouse County Park.

The lease/patent when issued, will be subject to the following terms, conditions and reservations:

1. Provisions of the Recreation and Public Purposes Act of 1926, as amended and to all applicable regulations of the Secretary of the Interior.

2. Valid existing rights.

3. All minerals are reserved to the United States, together with the right to prospect for, mine and remove the minerals.

4. Terms and conditions identified through the site specific environmental analysis.

5. Any other rights or reservations that the authorized officer deems appropriate to ensure public access and proper management of Federal lands and interest therein.

Upon publication of this Notice in the Federal Register, the above described lands will be segregated from all forms of disposal or appropriation under the public land laws, except for lease or conveyance under the Recreation and Public Purposes Act and leasing under the mineral leasing laws. For a period of 45 days after issuance of this notice, interested parties may submit comments regarding the proposed conveyance or classification of the lands to the Field Manager, Milwaukee Field Office, Bureau of Land Management, 310 West Wisconsin Avenue, Suite 450, Milwaukee, Wisconsin 53203.

Classification Comments

Interested parties may submit comments involving the suitability of the land for R&PP Act classification, and particularly, whether the land is physically suited for inclusion in the county park, whether the use will maximize future use or uses of the land, whether the use is consistent with local planning and zoning, or if the use is consistent with state and federal programs.

Application Comments

Interested parties may submit comments regarding the specific use proposed in the application, the development plan, the management plan, whether the BLM followed proper administrative procedures in reaching the decision, or any other factor not directly related to the suitability of the land for inclusion in the county park.

Any adverse comments will be evaluated by the State Director who may sustain, vacate, or modify this realty action. In the absence of any adverse comments, the classification will become effective 60 days from the date of publication of this Notice in the Federal Register.

Dated: August 1, 2002.
James W. Dryden,
Milwaukee Field Manager.

[FR Doc. 02-21392 Filed 8-21-02; 8:45 am]

BILLING CODE 4310-PN-P